ENVIRONMENTAL PROTECTION AGENCY

40 CFR Part 52

[EPA-R08-OAR-2015-0429; FRL-9939-87-Region 8]

Air Plan Approval; SD; Update to Materials Incorporated by Reference

AGENCY: Environmental Protection Agency (EPA).

ACTION: Final rule; administrative change.

SUMMARY: The Environmental Protection Agency (EPA) is updating the materials that are incorporated by reference (IBR) into the South Dakota State Implementation Plan (SIP). The Regulations affected by this update have been previously submitted by the South Dakota Department of Environment and Natural Resources (SD DENR) and approved by the EPA. In this action, the EPA is also notifying the public of corrections to typographical errors and minor formatting changes to the IBR tables. This update affects the SIP materials that are available for public inspection at the EPA Regional Office.

DATES: This action is effective December 23, 2015.

ADDRESSES: The EPA has established a docket for this action under Docket Identification Number EPA-R08-OAR-2015-0429. All documents in the docket are listed on the http://www.regulations.gov Web site. Although listed in the index, some information may not be publicly available, i.e., Confidential Business Information or other information the disclosure of which is restricted by statute. Certain other material, such as copyrighted material, is not placed on the Internet and will be publicly available only in the hard copy form. Publicly available docket materials are available either electronically through http://www.regulations.gov or in hard copy at EPA Region 8, Office of Partnerships and Regulatory Assistance, Air Program, 1595 Wynkoop Street, Denver, Colorado, 80202-1129. The EPA requests that you contact the individual listed in the FOR FURTHER INFORMATION CONTACT section to view the hard copy of the docket. An electronic copy of the State's SIP compilation is also available at http://www.epa.gov/region8/air/sip.html.

FOR FURTHER INFORMATION CONTACT: Kathy Ayala, Air Program, U.S. Environmental Protection Agency (EPA), Region 8, Mailcode 8P-AR, 1595 Wynkoop Street, Denver, Colorado 80202-1129, (303) 312-6142, ayala.kathy@epa.gov.

SUPPLEMENTARY INFORMATION:

I. Background

The SIP is a living document which a state revises as necessary to address its unique air pollution problems. Therefore, the EPA, from time to time, must take action on SIP revisions containing new and/or revised regulations as being part of the SIP. On May 22, 1997 (62 FR 27968), the EPA revised the procedures for incorporating by reference Federally-approved SIPs, as a result of consultation between the EPA and the Office of the Federal Register (OFR). The description of the revised SIP document, IBR procedures and “Identification of Plan” format are discussed in further detail in the May 22, 1997, Federal Register document. On March 8, 2005 (70 FR 11125) the EPA published the revised format of the IBR material for South Dakota as of November 15, 2004. Today's action is an update to the March 8, 2005 document.

II. EPA Action

In this action, the EPA is announcing the update to the IBR material as of October 1, 2015. The EPA is also correcting typographical errors, including omission and other minor errors in subsection 52.2170, paragraphs (c), (d), and (e).

III. Incorporation by Reference

In this action, EPA is finalizing regulatory text that includes incorporation by reference. In accordance with requirements of 1 CFR 51.5, EPA is finalizing the incorporation by reference of the South Dakota regulations described in the amendments to 40 CFR part 52 set forth below. EPA has made, and will continue to make, these documents generally available electronically through www.regulations.gov and/or in hard copy at the appropriate EPA office (see the ADDRESSES section of this preamble for more information).

IV. Good Cause Exemption

EPA has determined that today's action falls under the “good cause” exemption in section 553(b)(3)(B) of the Administrative Procedure Act (APA) which, upon a finding of “good cause” authorizes agencies to dispense with public participation, and section 553(d)(3), which allows an agency to make a rule effective immediately (thereby avoiding the 30-day delayed effective date otherwise provided for in the APA). Today's action simply updates the codification of provisions which are already in effect as a matter of law.

Under section 553 of the APA, an agency may find good cause where procedures are “impractical, unnecessary, or contrary to the public interest.” Public comment is “unnecessary” and “contrary to the public interest” since the codification only reflects existing law. Likewise, there is no purpose served by delaying the effective date of this action.

V. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the federal government and Indian tribes, or on the distribution of power and responsibilities between the federal government and Indian tribes, as specified by Executive Order 13175 (65 FR 67249, November 9, 2000), nor will it have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). This rule does not impose an information collection burden under the Paperwork Reduction Act of 1995 (44 U.S.C. 3501 et seq.). EPA's compliance with these statutes and Executive Orders for the underlying rules are discussed in previous actions taken on the state's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in federal and approved state programs. 5 U.S.C. 808(2). As stated previously, EPA has made such a good cause finding and established an effective date of December 23, 2015. EPA will submit a report containing this rule and other required information to the U.S. Senate, the U.S. House of Representatives, and the Comptroller General of the United States prior to publication of the rule in the Federal Register. This change to the identification of plan for South Dakota is not a “major rule” as defined by 5 U.S.C. 804(2).

In this rule, EPA is finalizing regulatory text that includes incorporation by reference. In accordance with requirements of 1 CFR 51.5, EPA is finalizing the incorporation by reference of the South Dakota regulations described in the amendments to 40 CFR part 52 set forth below. EPA has made, and will continue to make, these documents generally available electronically through www.regulations.gov and/or in hard copy at the appropriate EPA office (see the ADDRESSES section of this preamble for more information).

C. Petitions for Judicial Review

EPA has also determined that the provisions of section 307(b)(1) of the Clean Air Act pertaining to petitions for judicial review are not applicable to this action. Prior EPA rulemaking actions for each individual component of the South Dakota SIP compilation had previously afforded interested parties the opportunity to file a petition for judicial review in the United States Court of Appeals for the appropriate circuit within 60 days of such rulemaking action. Thus, EPA sees no need in this action to reopen the 60-day period for filing such petitions for judicial review for this “Identification of plan” update action for South Dakota.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 4, 2015.
Shaun L. McGrath,
Regional Administrator, Region 8.

40 CFR part 52 is amended as follows:

PART 52—APPROVAL AND PROMULGATION OF IMPLEMENTATION PLANS

1. The authority citation for part 52 continues to read as follows:

Authority: 42 U.S.C. 7401 et seq.

Subpart QQ—South Dakota

2. In § 52.2170 paragraphs (b), (c), (d) and (e) are revised to read as follows:

§ 52.2170 Identification of plan.

* * * * *

(b) Incorporation by reference. (1) Material listed in paragraphs (c) and (d) of this section with an EPA approval date prior to October 1, 2015, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after October 1, 2015, will be incorporated by reference in the next update to the SIP compilation.

(2) EPA Region 8 certifies that the rules/regulations provided by EPA in the SIP compilation at the addresses in paragraph (b)(3) of this section are an exact duplicate of the officially promulgated state rules/regulations which have been approved as part of the SIP as of October 1, 2015.

(3) Copies of the materials incorporated by reference may be inspected at the EPA Region 8 Office, Office of Partnerships and Regulatory Assistance (OPRA), Air Program, 1595 Wynkoop Street, Denver, Colorado 80202-1129.

(c) EPA-approved regulations.

Rule No. | Rule title | State effective date | EPA effective date | Final rule citation, date | Comments
Statewide
74:09:01. Procedures—Board of Minerals and Environment, Contested Case Procedure
74:09:01:20 | Board member conflict of interest | 5/29/14 | 3/2/15 | 80 FR 4799, 1/29/15
74:09:01:21 | Board member potential conflict of interests | 5/29/14 | 3/2/15 | 80 FR 4799, 1/29/15
74:36:01. Definitions
74:36:01:01 | Definitions | 6/25/13 | 11/2/15 | 80 FR 59620, 10/2/15
74:36:01:03 | Administrative permit amendment defined | 4/4/99 | 5/7/03 | 68 FR 16726, 4/7/03
74:36:01:04 | Affected states defined | 4/22/93 | 12/18/98 | 63 FR 55804, 10/19/98
74:36:01:05 | Applicable requirements of Clean Air Act defined | 6/28/10 | 7/28/14 | 79 FR 36419, 6/27/14
74:36:01:06 | Complete application defined | 4/22/93 | 12/18/98 | 63 FR 55804, 10/19/98
74:36:01:08 | Major source defined | 4/4/99 | 5/19/14 | 79 FR 21852, 4/18/14
74:36:01:09 | Categories of sources defined | 1/2/05 | 10/13/06 | 71 FR 46403, 8/14/06
74:36:01:10 | Modification defined | 6/28/10 | 7/28/14 | 79 FR 36419, 6/27/14
74:36:01:11 | National ambient air quality standard (NAAQS) | 4/22/93 | 12/18/98 | 63 FR 55804, 10/19/98
74:36:01:12 | Potential to emit defined | 4/22/93 | 12/18/98 | 63 FR 55804, 10/19/98
74:36:01:13 | Process weight rate defined | 4/22/93 | 12/18/98 | 63 FR 55804, 10/19/98
74:36:01:15 | Regulated air pollutant defined | 1/5/95 | 5/19/14 | 79 FR 21852, 4/18/14
74:36:01:16 | Responsible official defined | 1/2/05 | 10/13/06 | 71 FR 46403, 8/14/06
74:36:01:18 | Municipal solid waste landfill defined | 12/29/96 | 12/18/98 | 63 FR 55804, 10/19/98
74:36:01:19 | Existing municipal solid waste landfill defined | 12/29/96 | 12/18/98 | 63 FR 55804, 10/19/98
74:36:01:20 | Physical change or change in the method of operation defined | 6/28/10 | 7/28/14 | 79 FR 36419, 6/27/14
74:36:01:21 | Commence construction defined | 6/28/10 | 7/28/14 | 79 FR 36419, 6/27/14
74:36:02. Ambient Air Quality
74:36:02:01 | Air quality goals | 4/22/93 | 12/18/98 | 63 FR 55804, 10/19/98
74:36:02:02 | Ambient air quality standards | 6/25/13 | 11/2/15 | 80 FR 59620, 10/2/15
74:36:02:03 | Methods of sampling and analysis | 6/25/13 | 11/2/15 | 80 FR 59620,10/2/15
74:36:02:04 | Air quality monitoring network | 6/25/13 | 11/2/15 | 80 FR 59620, 10/2/15
74:36:02:05 | Air quality monitoring requirements | 6/25/13 | 11/2/15 | 80 FR 59620, 10/2/15
74:36:03. Air Quality Episodes
74:36:03:01 | Air pollution emergency episode | 6/28/10 | 7/28/14 | 79 FR 36419, 6/27/14
74:36:03:02 | Episode emergency contingency plan | 6/28/10 | 7/28/14 | 79 FR 36419, 6/27/14
74:36:04. Operating Permits for Minor Sources
74:36:04:01 | Applicability | 4/22/93 | 12/18/98 | 63 FR 55804, 10/19/98
74:36:04:02 | Minor source operating permit required | 6/28/10 | 7/28/14 | 79 FR 36419, 6/27/14
74:36:04:02.01 | Minor source operating permit exemption | 6/28/10 | 7/28/14 | 79 FR 36419, 6/27/14
74:36:04:03 | Emission unit exemptions | 6/28/10 | 7/28/14 | 79 FR 36419, 6/28/14
74:36:04:04 | Standard for issuance of a minor source operating permit | 6/25/13 | 11/2/15 | 80 FR 59620, 10/2/15
74:36:04:05 | Time period for operating permits and renewals | 6/25/13 | 11/2/15 | 80 FR 59620, 10/2/15
74:36:04:06 | Timely and complete application for operating permit required | 6/28/10 | 7/28/14 | 79 FR 36419, 6/27/14
74:36:04:07 | Required contents of complete application for operating permit | 6/28/10 | 7/28/14 | 79 FR 36419, 6/27/14
74:36:04:08 | Applicant required to supplement or correct application | 1/5/95 | 12/18/98 | 63 FR 55804, 10/19/98
74:36:04:09 | Permit application—Completeness review | 6/28/10 | 7/28/14 | 79 FR 36419, 6/27/14
74:36:04:10 | Time period for department's recommendation | 6/28/10 | 7/28/14 | 79 FR 36419, 6/27/14
74:36:04:11 | Department's recommendation on operating permit | 4/4/99 | 5/7/03 | 68 FR 16726, 4/7/03
74:36:04:12 | Public participation in permitting process | 6/25/13 | 11/2/15 | 80 FR 59620, 10/2/15
74:36:04:12.01 | Public review of department's draft permit | 6/28/10 | 7/28/14 | 79 FR 36419, 6/27/14
74:36:04:13 | Final permit decision—Notice to interested persons | 6/25/13 | 11/2/15 | 80 FR 59620, 10/2/15
74:36:04:14 | Right to petition for contested case hearing | 6/25/13 | 11/2/15 | 80 FR 59620, 10/2/15
74:36:04:15 | Contents of operating permit | 6/25/13 | 11/2/15 | 80 FR 59620, 10/2/15
74:36:04:16 | Operating permit expiration | 6/28/10 | 7/28/14 | 79 FR 36419, 6/27/14
74:36:04:17 | Renewal of operating permit | 6/28/10 | 7/28/14 | 79 FR 36419, 6/27/14
74:36:04:18 | Operating permit revision | 6/28/10 | 7/28/14 | 79 FR 36419, 6/27/14
74:36:04:19 | Administrative permit amendment | 4/4/99 | 5/7/03 | 68 FR 16726, 4/7/03
74:36:04:20 | Procedures for administrative permit amendments | 6/28/10 | 7/28/14 | 79 FR 36419, 6/27/14
74:36:04:20.01 | Minor permit amendment required | 6/28/10 | 7/28/14 | 79 FR 36419, 6/27/14
74:36:04:20.02 | Requirements for minor permit amendment | 1/5/95 | 12/18/98 | 63 FR 55804, 10/19/98
74:36:04:20.03 | Application for minor permit amendment | 1/5/95 | 12/18/98 | 63 FR 55804, 10/19/98
74:36:04:20.04 | Department deadline to approve minor permit amendment | 6/28/10 | 7/28/14 | 79 FR 36419, 6/27/14
74:36:04:21 | Permit modifications | 1/5/95 | 12/18/98 | 63 FR 55804, 10/19/98
74:36:04:22 | Source status change—new permit required | 4/4/99 | 5/7/03 | 68 FR 16726, 4/7/03
74:36:04:23 | Reopening operating permit for cause | 6/28/10 | 7/28/14 | 79 FR 36419, 6/27/14
74:36:04:24 | Procedures to reopen operating permit | 4/22/93 | 12/18/98 | 63 FR 55804, 10/19/98
74:36:04:27 | Operating permit termination, revision, and revocation | 6/28/10 | 7/28/14 | 79 FR 36419, 6/27/14
74:36:04:28 | Notice of operating noncompliance—Contents | 4/22/93 | 12/18/98 | 63 FR 55804, 10/19/98
74:36:04:29 | Petition for contested case on alleged violation | 4/22/93 | 12/18/98 | 63 FR 55804, 10/19/98
74:36:04:31 | Circumvention of emissions not allowed | 4/22/93 | 12/18/98 | 63 FR 55804, 10/19/98
74:36:04:32 | General permits | 6/28/10 | 7/28/14 | 79 FR 36419, 6/27/14
74:36:04:33 | Secretary may require an individual permit | 9/1/03 | 7/9/04 | 69 FR 25839, 5/10/04
74:36:06. Regulated Air Pollutant Emissions
74:36:06:01 | Applicability | 1/5/95 | 12/18/98 | 63 FR 55804, 10/19/98
74:36:06:02 | Allowable emissions for fuel-burning units | 4/4/99 | 5/7/03 | 68 FR 16726, 4/7/03
74:36:06:03 | Allowable emissions for process industry units | 4/4/99 | 5/7/03 | 68 FR 16726, 4/7/03
74:36:06:04 | Particulate emission restrictions for incinerators and waste wood burners | 1/2/05 | 10/13/06 | 71 FR 46403,8/14/06
74:36:06:05 | Most stringent interpretation applicable | 4/22/93 | 12/18/98 | 63 FR 55804, 10/19/98
74:36:06:06 | Stack performance test | 1/2/05 | 10/13/06 | 71 FR 46403, 8/14/06
74:36:06:07 | Open burning practices prohibited | 4/4/99 | 5/7/03 | 68 FR 16726, 4/7/03
74:36:07. New Source Performance Standards
74:36:07:08 | Ash disposal requirements | 12/29/96 | 6/21/00 | 65 FR 32033, 5/22/00
74:36:07:29 | Operating requirements for wire reclamation furnaces | 4/22/93 | 11/6/95 | 60 FR 46222, 9/6/95
74:36:07:30 | Monitoring requirements for wire reclamation furnaces | 4/22/93 | 11/6/95 | 60 FR 46222, 9/6/95
74:36:09. Prevention of Significant Deterioration
74:36:09:01 | Applicability | 9/18/06 | 1/22/08 | 72 FR 72617, 12/21/07
74:36:09:01.01 | Prevention of significant deterioration permit required | 9/18/06 | 1/22/08 | 72 FR 72617, 12/21/07
74:36:09:02 | Prevention of significant deterioration | 6/25/13 | 3/2/15 | 80 FR 4799, 1/29/15
74:36:09:03 | Public participation | 6/25/13 | 3/2/15 | 80 FR 4799, 1/29/15
74:36:10. New Source Review
74:36:10:01 | Applicability | 4/22/93 | 12/18/98 | 63 FR 55804, 10/19/98
74:36:10:02 | Definitions | 6/25/13 | 7/28/14 | 79 FR 36419, 6/27/14
74:36:10:03.01 | New source review preconstruction permit required | 6/25/13 | 7/28/14 | 79 FR 36419, 6/27/14
74:36:10:05 | New source review preconstruction permit | 6/25/13 | 7/28/14 | 79 FR 36419, 6/27/14
74:36:10:06 | Causing or contributing to violation of any national ambient air quality standard | 9/1/03 | 7/9/04 | 69 FR 25839, 5/10/04
74:36:10:07 | Determining credit for emission offsets | 6/25/13 | 7/28/14 | 79 FR 36419, 6/27/14
74:36:10:08 | Projected actual emissions | 6/25/13 | 7/28/14 | 79 FR 36419, 6/27/14
74:36:10:09 | Clean unit test for emission units subject to lowest achievable emission rate | 1/2/05 | 10/13/06 | 71 FR 46403, 8/14/06
74:36:10:10 | Clean unit test for emission units comparable to lowest achievable emission rate | 1/2/05 | 10/13/06 | 71 FR 46403, 8/14/06
74:36:11. Performance Testing
74:36:11:01 | Stack performance testing or other testing methods | 6/25/13 | 11/2/15 | 80 FR 59620,10/2/15
74:36:11:02 | Secretary may require performance tests | 12/29/96 | 12/18/98 | 63 FR 55804, 10/19/98
74:36:11:03 | Notice to department of performance test | 12/29/96 | 12/18/98 | 63 FR 55804, 10/19/98
74:36:11:04 | Testing new fuels or raw materials | 4/4/99 | 4/3/00 | 65 FR 5264, 2/3/00
74:36:12. Control of Visible Emissions
74:36:12:01 | Restrictions on visible emissions | 6/25/13 | 11/2/15 | 80 FR 59620, 10/2/15
74:36:12:02 | Exceptions to restrictions | 6/25/13 | 11/2/15 | 80 FR 59620, 10/2/15
74:36:12:03 | Exceptions granted to alfalfa pelletizers or dehydrators | 6/25/13 | 11/2/15 | 80 FR 59620, 10/2/15
74:36:13. Continuous Emission Monitoring Systems
74:36:13:01 | Secretary may require continuous emission monitoring systems (CEMS) | 4/22/93 | 12/18/98 | 63 FR 55804, 10/19/98
74:36:13:02 | Minimum performance specifications for all continuous emission monitoring systems | 6/25/13 | 11/2/15 | 80 FR 59620, 10/2/15
74:36:13:03 | Reporting requirements | 6/25/13 | 11/2/15 | 80 FR 59620, 10/2/15
74:36:13:04 | Notice to department of exceedance | 6/25/13 | 11/2/15 | 80 FR 59620, 10/2/15
74:36:13:05 | Compliance determined by data from continuous emission monitor | 4/22/93 | 12/18/98 | 63 FR 55804, 10/19/98
74:36:13:06 | Compliance certification | 6/25/13 | 11/2/15 | 80 FR 59620, 10/2/15
74:36:13:07 | Credible evidence | 6/25/13 | 11/2/15 | 80 FR 59620, 10/2/15
74:36:13:08 | Compliance assurance monitoring | 6/25/13 | 11/2/15 | 80 FR 59620, 10/2/15
74:36:17. Rapid City Street Sanding and Deicing
74:36:17:01 | Applicability | 2/11/96 | 8/9/02 | 67 FR 39619, 6/10/02
74:36:17:02 | Reasonable available control technology | 2/11/96 | 8/9/02 | 67 FR 39619, 6/10/02
74:36:17:03 | Street sanding specifications | 2/11/96 | 8/9/02 | 67 FR 39619, 6/10/02
74:36:17:04 | Street deicing and maintenance plan | 2/11/96 | 8/9/02 | 67 FR 39619, 6/10/02
74:36:17:05 | Street sanding and sweeping recordkeeping | 2/11/96 | 8/9/02 | 67 FR 39619, 6/10/02
74:36:17:06 | Inspection authority | 2/11/96 | 8/9/02 | 67 FR 39619, 6/10/02
74:36:18. Regulations for State Facilities in the Rapid City Area
74:36:18:01 | Definitions | 7/1/02 | 3/22/04 | 69 FR 2671,1/20/04
74:36:18:02 | Applicability | 7/1/02 | 3/22/04 | 69 FR 2671, 1/20/04
74:36:18:03 | Permit required | 7/1/02 | 3/22/04 | 69 FR 2671, 1/20/04
74:36:18:04 | Time period for permits and renewals | 6/25/13 | 11/2/15 | 80 FR 59620, 10/2/15
74:36:18:05 | Required contents of a complete application for a permit | 6/25/13 | 11/2/15 | 80 FR 59620, 10/2/15
74:36:18:06 | Contents of permit | 6/25/13 | 11/2/15 | 80 FR 59620, 10/2/15
74:36:18:07 | Permit expiration | 7/1/02 | 3/22/04 | 69 FR 2671, 1/20/04
74:36:18:08 | Renewal of permit | 7/1/02 | 3/22/04 | 69 FR 2671, 1/20/04
74:36:18:09 | Reasonably available control technology required | 7/1/02 | 3/22/04 | 69 FR 2671, 1/20/04
74:36:18:10 | Visible emission limit for construction and continuous operation activities | 6/25/13 | 11/2/15 | 80 FR 59620, 10/2/15
74:36:18:11 | Exception to visible emission limit | 6/25/13 | 11/2/15 | 80 FR 59620, 10/2/15
74:36:18:12 | Notice of operating noncompliance—Contents | 6/25/13 | 11/2/15 | 80 FR 59620, 10/2/15
74:36:20. Construction Permits for New Sources or Modifications
74:36.20.01 | Applicability | 6/28/10 | 7/28/14 | 79 FR 36419, 6/27/14
74:36:20:02 | Construction permit required | 4/20/11 | 7/28/14 | 79 FR 36419, 6/27/14
74:36:20:03 | Construction permit exemption | 6/28/10 | 7/28/14 | 79 FR 36419, 6/27/14
74:36:20:04 | Emission unit exemptions | 6/28/10 | 7/28/14 | 79 FR 36419, 6/27/14
74:36:20:05 | Standard for issuance of construction permit | 6/25/13 | 11/2/15 | 80 FR 59620, 10/2/15
74:36:20:06 | Timely and complete application for a construction permit required | 6/28/10 | 7/28/14 | 79 FR 36419, 6/27/14
74:36:20:07 | Required contents of complete application for a construction permit | 6/28/10 | 7/28/14 | 79 FR 36419, 6/27/14
74:36:20:08 | Applicant required to supplement or correct application | 6/28/10 | 7/28/14 | 79 FR 36419, 6/27/14
74:36:20:09 | Permit application—Completeness review | 6/28/10 | 7/28/14 | 79 FR 36419, 6/27/14
74:36:20:10 | Time period for department's recommendation | 6/28/10 | 7/28/14 | 79 FR 36419, 6/27/14
74:36:20:11 | Public participation in permitting process | 6/25/13 | 11/2/15 | 80 FR 59620, 10/2/15
74:36:20:12 | Public review of department's draft permit | 6/28/10 | 7/28/14 | 79 FR 36419, 6/27/14
74:36:20:13 | Final permit decision—Notice to interested persons | 6/25/13 | 11/2/15 | 80 FR 59620, 10/2/15
74:36:20:14 | Right to petition for contested case hearing | 6/25/13 | 11/2/15 | 80 FR 59620, 10/2/15
74:36:20:15 | Contents of construction permit | 6/25/13 | 11/2/15 | 80 FR 59620, 10/2/15
74:36:20:16 | Administrative permit amendment | 6/28/10 | 7/28/14 | 79 FR 36419, 6/27/14
74:36:20:17 | Procedures for administrative permit amendments | 6/28/10 | 7/28/14 | 79 FR 36149, 6/27/14
74:36:20:18 | Reopening construction permit for cause | 6/28/10 | 7/28/14 | 79 FR 36419, 6/27/14
74:36:20:19 | Procedures to reopen construction permit | 6/28/10 | 7/28/14 | 79 FR 36149, 6/27/14
74:36:20:20 | Construction permit does not exempt from other requirements | 6/28/10 | 7/28/14 | 79 FR 36419, 6/27/14
74:36:20:21 | Expiration of a construction permit | 6/28/10 | 7/28/14 | 79 FR 36419, 6/27/14
74:36:20:22 | Notice of constructing or operating noncompliance—Contents | 6/28/10 | 7/28/14 | 79 FR 36419, 6/27/14
74:36:20:23 | Petition for contested case on alleged violation | 6/28/10 | 7/28/14 | 79 FR 36419, 6/27/14
74:36:20:24 | Circumvention of emissions not allowed | 6/28/10 | 7/28/14 | 79 FR 36419, 6/27/14
74:36:21. Regional Haze Program
74:36:21:01 | Applicability | 12/7/10 | 5/29/12 | 77 FR 24845, 4/26/12
74:36:21:02 | Definitions | 6/25/13 | 11/2/15 | 80 FR 59620, 10/2/15
74:36:21:03 | Existing stationary facility defined | 12/7/10 | 5/29/12 | 77 FR 24845, 4/26/12
74:36:21:04 | Visibility impact analysis | 6/25/13 | 11/2/15 | 80 FR 59620, 10/2/15
74:36:21:05 | BART determination | 6/25/13 | 11/2/15 | 80 FR 59620, 10/2/15
74:36:21:06 | BART determination for a BART-eligible coal-fired power plant | 9/19/11 | 5/29/12 | 77 FR 24845, 4/26/12
74:36:21:07 | Installation of controls based on visibility impact analysis or BART determination | 12/7/10 | 5/29/12 | 77 FR 24845, 4/26/12
74:36:21:08 | Operation and maintenance of controls | 12/7/10 | 5/29/12 | 77 FR 24845, 4/26/12
74:36:21:09 | Monitoring, recordkeeping, and reporting | 6/25/13 | 11/2/15 | 80 FR 59620, 10/2/15
74:36:21:10 | Permit to construct | 12/7/10 | 5/29/12 | 77 FR 24845, 4/26/12
74:36:21:11 | Permit required for BART determination | 12/7/10 | 5/29/12 | 77 FR 24845, 4/26/12
74:36:21:12 | Federal land manager notification and review | 12/7/10 | 5/29/12 | 77 FR 24845, 4/26/12
Pennington
Ordinance #12—Fugitive Dust Regulation—1.0 Control of Fugitive Dust
1.1 | Applicability | 12/12/78 | 7/13/79 | 44 FR 44494, 7/30/79
1.2 | Definitions | 12/12/78 | 7/13/79 | 44 FR 44494, 7/30/79
1.3 | Standard of compliance | 12/12/78 | 7/13/79 | 44 FR 44494, 7/30/79
1.4 | Reasonably available control technology required | 12/12/78 | 7/13/79 | 44 FR 44494, 7/30/79
1.5 | Fugitive dust control permits required for construction activities, i.e., temporary operations | 12/12/78 | 7/13/79 | 44 FR 44494, 7/30/79
1.6 | Compliance plans and schedules required, i.e., continuous operations | 12/12/78 | 7/13/79 | 44 FR 44494, 7/30/79
1.7 | Enforcement procedures | 12/12/78 | 7/13/79 | 44 FR 44494, 7/30/79
1.8 | Establishment of administrative mechanisms | 12/12/78 | 7/13/79 | 44 FR 44494, 7/30/79
1.9 | Separability | 12/12/78 | 7/13/79 | 44 FR 44494, 7/30/79

(d) EPA-approved source specific requirements.

Rule No. | Rule title | State effective date | EPA effective date | Final rule citation, date | Comments
(AQ 79-02.) | South Dakota State University steam generating plant | 3/18/82 | 8/7/83 | 48 FR 31199, 7/7/83

(e) EPA-approved nonregulatory provisions.

Rule title | State effective date | EPA effective date | Final rule citation, date | Comments
I.A. Introduction | 1/17/72 | 7/13/72 | 37 FR 15080, 7/27/72
I.B. Legal Authority | 1/17/72 | 7/13/72 | 37 FR 15080, 7/27/72
I.C. Control Strategy | 1/17/72 | 7/13/72 | 37 FR 15080, 7/27/72
I.D. Compliance Schedule | 1/17/72 | 7/13/72 | 37 FR 15080, 7/27/72
I.E. Prevention of Air Pollution Emergency Episodes | 1/17/72 | 7/13/72 | 37 FR 15080, 7/27/72
I.F. Air Quality Surveillance | 1/17/72 | 7/13/72 | 37 FR 15080, 7/27/72
I.G. Review of New Sources and Modifications | 1/17/72 | 7/13/72 | 37 FR 15080, 7/27/72
I.H. Source Surveillance | 1/17/72 | 7/13/72 | 37 FR 15080, 7/27/72
I.I. Resources | 1/17/72 | 7/13/72 | 37 FR 15080, 7/27/72
I.J. Intergovernmental Cooperation | 1/17/72 | 7/13/72 | 37 FR 15080, 7/27/72
I. Appendix A. South Dakota Compiled Laws | 1/17/72 | 7/13/72 | 37 FR 15080, 7/27/72
II. Part D Plan for Total Suspended Particulate | 12/27/78 | 8/30/79 | 44 FR 44494, 7/30/79
III. SIP to meet Air Quality Monitoring and public notification requirements | 1/21/80 | 10/4/80 | 45 FR 58528, 9/4/80
IV. Lead (Pb) SIP | 5/4/84 | 10/26/84 | 49 FR 37752, 9/26/84
V. Stack Height Demonstration Analysis | 8/20/86 | 7/7/89 | 54 FR 24334, 6/7/89
VI. Commitment to revise stack height rules | 5/11/88 | 10/2/88 | 53 FR 34077, 9/2/88
VII. PM10 Committal SIP | 7/12/88 | 11/5/90 | 55 FR 40831, 10/5/90
VIII. Small Business Technical and Environmental Compliance Program | 1/12/94 | 12/27/94 | 59 FR 53589, 10/25/94
IX. Commitment regarding permit exceedances of the PM10 standard in Rapid City | 11/16/95 | 7/10/02 | 67 FR 39619, 6/10/02
X. CAA 110(a)(D)(2)(i) Interstate Transport Requirements for the 1997 8-hr Ozone and PM2.5 NAAQS | 4/19/07 | 7/7/08 | 73 FR 26019, 5/8/08
XI. 1997 Ozone NAAQS Infrastructure Certification | 2/1/08 | 8/22/11 | 76 FR 43912, 7/22/11
XII. South Dakota Regional Haze State Implementation Plan, Amended | 4/26/12 | 5/29/12 | 77 FR 24845, 4/26/12
XIII. Section 110(a)(2) Infrastructure Requirements for the 1997 and 2006 PM2.5 NAAQS | 3/4/11 | 3/2/15 | 80 FR 4799, 1/29/15
XIV. Section 110(a)(2) Infrastructure Requirements for the 2008 Lead NAAQS | 10/10/12 | 3/2/15 | 80 FR 4799, 1/29/15
XV. Section 110(a)(3) Infrastructure Requirements for the 2008 8-hour Ozone NAAQS | 5/21/13 | 3/2/15 | 80 FR 4799, 1/29/15
XVI. Section 110(a)(2) Infrastructure Requirements for the 2010 NO2 NAAQS | 10/23/13 | 3/2/15 | 80 FR 4799, 1/29/15
XVII. SDCL (South Dakota Codified Laws), 1-40-25.1 | 3/2/15 | 3/2/15 | 80 FR 4799, 1/29/15
XVIII. South Dakota Codified Laws, 34-A-1-57, 34-A-1-58, 34-A-1-59, and 34-A-1-60 | 7/1/93 | 12/27/94 | 59 FR 53589, 10/25/94

[FR Doc. 2015-32216 Filed 12-22-15; 8:45 am]

BILLING CODE 6560-50-P